NATIONAL AERONAUTICS AND SPACE ADMINISTRATION

[Notice (14-045)]

NASA Advisory Council; Human Exploration and Operations Committee; Meeting

AGENCY: National Aeronautics and Space Administration.

ACTION: Notice of meeting.

SUMMARY: In accordance with the Federal Advisory Committee Act, Public Law 92-463, as amended, the National Aeronautics and Space Administration (NASA) announces a meeting of the Human Exploration and Operations Committee (HEOC) of the NASA Advisory Council (NAC). This Committee reports to the NAC.

DATES: Monday, June 23, 2014, 10:30 a.m. to 12:00 Noon, and 2:00 to 5:00 p.m. Local Time.

ADDRESSES: NASA Headquarters, Room MIC 5A (5H42-A), 300 E Street SW., Washington, DC 20546.

FOR FURTHER INFORMATION CONTACT: Dr. Bette Siegel, Human Exploration and Operations Mission Directorate, NASA Headquarters, Washington, DC 20546, (202) 358-2245, or bette.siegel@nasa.gov.

SUPPLEMENTARY INFORMATION: The meeting will be open to the public up to the seating capacity of the room. This meeting is also available telephonically and by WebEx. Any interested person may call the USA toll free conference call number (888) 323-3509 or toll number (630) 395-0439, pass code 2799942, to participate in this meeting by telephone. The WebEx link is https://nasa.webex.com/, the meeting number is 991 158 921, and the password is June23@HQ. The agenda for the meeting includes the following topics:

—Evolving Mars Missions and Trade Space

—Exploration Strategy and Overview

Attendees will be requested to sign a register and to comply with NASA security requirements, including the presentation of a valid picture ID to Security before access to NASA Headquarters. Foreign nationals attending this meeting will be required to provide a copy of their passport and visa in addition to providing the following information no less than 10 working days prior to the meeting: Full name; gender; date/place of birth; citizenship; visa information (number, type, expiration date); passport information (number, country, expiration date); employer/affiliation information (name of institution, address, country, telephone); title/position of attendee; and home address to Dr. Bette Siegel via email at bette.siegel@nasa.gov or by fax at (202) 358-2885. U.S. citizens and Permanent Residents (green card holders) are requested to submit their name and affiliation 3 working days prior to the meeting to Dr. Bette Siegel. It is imperative that the meeting be held on these dates to accommodate the scheduling priorities of the key participants.

Patricia D. Rausch,
Advisory Committee Management Officer, National Aeronautics and Space Administration.

[FR Doc. 2014-13185 Filed 6-5-14; 8:45 am]

BILLING CODE 7510-13-P